DEPARTMENT OF ENERGY

Office of Civilian Radioactive Waste Management: Site Recommendation Consideration Process; Las Vegas Science Center To Serve as Extended Hearing Facility

AGENCY: Office of Civilian Radioactive Waste Management, Department of Energy.

ACTION: Notice of an extended hearing facility to receive official comments.

SUMMARY: The Department of Energy (the Department) announces that its Las Vegas Science Center will be used to receive public comments on the possible recommendation of the Yucca Mountain Site in Nevada for development as a spent nuclear fuel and high-level radioactive waste geologic repository. In addition, the Science Centers in Pahrump, Nevada, and Beatty, Nevada, will have forms available for written comments.

DATES: Starting on September 26, 2001, and continuing through October 15, 2001, the Las Vegas Science Center will be open from 10 a.m. to 6 p.m. Tuesday through Friday, and on Saturdays, from 10 a.m. to 4 p.m.

ADDRESSES: Locations for the three Science Centers in Nevada are: Las Vegas—4101-B Meadows Lane; Pahrump—1141 South Highway 160; Beatty—100 North E Avenue.

Written comments may also be addressed to Carol Hanlon, U.S. Department of Energy, Yucca Mountain Site Characterization Office (M/S #205), P.O. Box 30307, North Las Vegas, Nevada, 89036-0307.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: In the August 21, 2001, Federal Register Notice (66 FR 43850-43851), the Department announced the scheduling of public hearings in Las Vegas, Nevada on September 5, 2001, in Amargosa Valley, Nevada on September 12, 2001, and in Pahrump, Nevada on September 13, 2001. The Department decided to postpone the latter two hearings in light of the recent terrorist attacks on the United States. In a notice published on September 27, 2001 (66 FR 49372-49373), the latter two hearings were rescheduled to October 10 and October 12, 2001, in Amargosa Valley, Nevada and Pahrump, Nevada, respectively.

For those members of the public who do not participate in these public hearings, the Department is providing them with an opportunity to submit comments at the Las Vegas Science Center, prior to the end of the comment period, on the possible recommendation of the Yucca Mountain Site for development as a spent nuclear fuel and high-level radioactive waste repository. A Department official and court reporter will be available to provide project information and receive public testimony from anyone wishing to provide official comments. All comments will be considered as part of the official public record. Written testimony may also be submitted as part of the official record. Posters and relevant information materials on the Yucca Mountain project will also be available at the Science Center.

Citizens are encouraged to reserve time slots to offer testimony by calling 1-800-967-3477. Oral testimony will be limited to 10 minutes in order to provide proper consideration to all individuals wishing to testify. Citizens are encouraged to arrive no later than 15 minutes prior to their scheduled testimony time; citizens arriving after their timeslot has passed will be accommodated to the extent possible. Walk-in testimony will be accepted as the schedule permits, with priority given to those who have reserved time in advance. Individuals who visit the Las Vegas Science Center to provide testimony will do so in the FOIA (Freedom of Information Act) Reading Room.

In addition, citizens can visit DOE Science Centers located in Pahrump, Nevada, and Beatty, Nevada, to submit written comments until the close of the comment period. Comments can also be submitted via e-mail through the web site at www.ymp.gov.

Additional information on the comment process at the Science Centers and on the Civilian Radioactive Waste Management program may be obtained at the Yucca Mountain web site at www.ymp.gov or by calling 1-800-967-3477.

Issued in Washington, DC on September 26, 2001.
Lake H. Barrett,
Acting Director.

[FR Doc. 01-24626 Filed 10-1-01; 8:45 am]

BILLING CODE 6450-01-P